DEPARTMENT OF AGRICULTURE

Forest Service

Siuslaw Resource Advisory Committee

AGENCY: Forest Service, USDA.

ACTION: Notice of meeting.

SUMMARY: The Siuslaw Resource Advisory Committee will meet in Florence, OR. The purpose of the meeting is to review RAC FY05 Business, Public Forum and 2005 Project Review/Recommendations.

DATES: The meeting will be held June 14, 2004 beginning at 9 a.m.

ADDRESSES: The meeting will be held at the Siuslaw Valley Fire and Rescue Station, 2625 Hwy 101, Florence, OR 97439.

FOR FURTHER INFORMATION CONTACT: Linda Stanley, Community Development Specialist, Siuslaw National Forest, (541) 928-7085 or write to Forest Supervisor, Siuslaw National Forest, PO Box 1148, Corvallis, OR 97339.

SUPPLEMENTARY INFORMATION: A public input period will begin at 10 a.m. The meeting is expected to adjourn at 4 p.m.

Dated: May 25, 2004.
Mary Zuschlag,
Acting Forest Supervisor.

[FR Doc. 04-12216 Filed 5-28-04; 8:45 am]

BILLING CODE 3410-11-M